FEDERAL COMMUNICATIONS COMMISSION

Performance Review Board; Appointment

As required by the Civil Service Reform Act of 1978 (Pub. L. 95-454), Chairman Thomas Wheeler appointed the following executive to the Performance Review Board (PRB): Diane Cornell.

Federal Communications Commission.
Marlene H. Dortch,
Secretary.

[FR Doc. 2014-05942 Filed 3-17-14; 8:45 am]

BILLING CODE 6712-01-P